DEPARTMENT OF HEALTH AND HUMAN SERVICES

Health Resources and Services Administration

Agency Information Collection Activities: Proposed Collection: Public Comment Request; Information Collection Request Title: COVID-19 Provider Relief Programs Single and Commercial Audits and Delinquent Audit Reporting Submission Activities, Office of Management and Budget No. 0906-0083—Extension

AGENCY: Health Resources and Services Administration (HRSA), Department of Health and Human Services.

ACTION: Notice.

SUMMARY: In compliance with the requirement to provide opportunity for public comment on proposed data collection projects per the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than July 1, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: COVID-19 Provider Relief Programs Single and Commercial Audits and Delinquent Audit Reporting Submission Activities, OMB No. 0906-0083—Extension.

Abstract: The Coronavirus Aid, Relief, and Economic Security Act (Pub. L. 116-136); the Paycheck Protection Program and Health Care Enhancement Act (Pub. L. 116-139); the Coronavirus Response and Relief Supplemental Appropriations Act (Pub. L. 116-260); the Families First Coronavirus Response Act (Pub. L. 116-127); and the American Rescue Plan Act of 2021 (Pub. L. 117-2) provided the Department of Health and Human Services the authority to administer the Provider Relief Programs (PRP) (e.g., Provider Relief Fund; American Rescue Plan Act Rural Distribution; COVID-19 Coverage Assistance Fund; and COVID-19 Claims Reimbursement to Health Care Providers and Facilities for Testing, Treatment, and Vaccine Administration for the Uninsured). The Department of Health and Human Services delegated the authority for these programs to HRSA. The PRP issued payments to eligible health care providers for expenses or lost revenues attributable to COVID-19 and claims reimbursement for COVID-19 testing, treatment, and vaccine administration for uninsured and COVID-19 vaccine administration for underinsured individuals. Recipients of these funds agreed to the Terms and Conditions applicable to each Program, which require, among other Terms, compliance with reporting requirements as specified by the Secretary of Health and Human Services. Recipients are eligible health care providers who include public entities, Medicare or Medicaid enrolled suppliers and providers, and for-profit and non-profit entities that provide diagnosis, testing, vaccination, or care for individuals with possible or actual cases of COVID-19. The Single Audit Act requires entities that expend $750,000 or more of federal assistance during the entity's fiscal year to conduct an independent audit. Requirements for these audits are set forth in regulations at 45 CFR subpart F. Requirements differ for non-profit and commercial/for-profit entities, and non-profit entities are required to submit their audits to the Federal Audit Clearinghouse. HRSA has established a Commercial Audit Reporting Portal to collect audits from commercial/for-profit organizations. In late calendar year 2023, HRSA developed a delinquent audit follow-up process to ensure that all providers required to submit an audit do so. The delinquent audit follow-up process includes educating PRP recipients on the 45 CFR 75 subpart F requirements and following up on overdue audit report submissions. In February 2024, OMB approved HRSA's emergency ICR for the Commercial Audit Reporting Portal and the delinquent audit follow-up process. Collectively, these activities will help ensure the fiscal and program integrity of the PRP.

Need and Proposed Use of the Information: HRSA will use the collected information to ensure all PRP recipients who expended over $750,000 in funding during the recipient's fiscal year submit an audit and resolve audit findings, including recovery of any funds used not in accordance with the Terms and Conditions of the programs.

Likely Respondents: PRP recipients who expended over $750,000 in funding during their fiscal year.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Provider Relief Bureau Commercial Audit Reporting Portal | 21,000 | 1 | 21,000 | 0.75 | 15,750
Delinquent Audit Follow-up Attestation | 21,000 | 2 | 42,000 | 0.25 | 10,500
Questioned Cost Attestation | 7,000 | 10 | 70,000 | 5.00 | 350,000
Total | 49,000 |  | 133,000 |  | 376,250

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2024-09466 Filed 5-1-24; 8:45 am]

BILLING CODE 4165-15-P